FEDERAL COMMUNICATIONS COMMISSION

Notice of Public Information Collection(s) Being Reviewed by the Federal Communications Commission

January 16, 2003.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before February 27, 2003. If you anticipate that you will be submitting comments, but find it difficult to do so within the period of time allowed by this notice, you should advise the contact listed below as soon as possible.

ADDRESSES: Direct all comments to Judith Boley Herman, Federal Communications Commission, Room 1-C804, 445 12th Street, SW., DC 20554 or via the Internet to jboley@fcc.gov.

FOR FURTHER INFORMATION CONTACT: For additional information or copies of the information collection(s), contact Judith Boley Herman at 202-418-0214 or via the Internet at jboley@fcc.gov.

SUPPLEMENTARY INFORMATION: OMB Control No.: 3060-0106.

Title: Section 43.61—Reports of Overseas Telecommunications Traffic.

Form No: N/A.

Type of Review: Extension of a currently approved collection.

Respondents: Business or other for-profit.

Number of Respondents: 704.

Estimated Time Per Response: 26 hours.

Frequency of Response: On occasion, quarterly, and annual reporting requirements.

Total Annual Burden: 18,520 hours.

Total Annual Cost: $626,000.

Needs and Uses: The telecommunications traffic data report is an annual reporting requirement imposed on common carriers engaged in the provision of overseas telecommunications services. The reported data is useful for international planning, facility authorization, monitoring emerging developments in communications services, analyzing market structures, tracking the balance of payments in international communications services, ad market analysis purposes. The reported data enables the Commission to fulfill it's regulatory responsibilities.

OMB Control No.: 3060-0848.

Title: Deployment of Wireline Services Offering Advanced Telecommunications Capability, CC Docket No. 989-147.

Form No: N/A.

Type of Review: Revision of a currently approved collection.

Respondents: Business or other for-profit.

Number of Respondents: 1,750.

Estimated Time Per Response: .50-44 hours.

Frequency of Response: On occasion and annual reporting requirements, recordkeeping requirement, third party disclosure requirement.

Total Annual Burden: 165,600 hours.

Total Annual Cost: N/A.

Needs and Uses: The requirements implemented section 251 of the Communications Act of 1934, as amended, to promote deployment of advanced services without significantly degrading the performance of other services. All the requirements will be used by the Commission and competitive local exchange carriers (CLECs) to facilitate the deployment of advanced data services and implement section 251 of the Act. This information collection was revised to because it clarified in an Order on Reconsideration that incumbent LECs must file tariffs for cross-connects provided pursuant to section 201.

Federal Communications Commission.
Marlene H. Dortch,
Secretary.

[FR Doc. 03-1839 Filed 1-27-03; 8:45 am]

BILLING CODE 6712-01-P